DEPARTMENT OF TRANSPORTATION

Federal Aviation Administration

14 CFR Part 39

[Docket No. FAA-2007-0347; Directorate Identifier 2007-NM-253-AD; Amendment 39-15437; AD 2008-06-25]

RIN 2120-AA64

Airworthiness Directives; Airbus Model A330 and A340 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Two A330 operators have reported that the guide shaft of the Refuel Isolation Valve has been broken away from the main casting and entered the fuel tank. The Supplier Investigation evidenced that water builds-up in the cavity of the Refuel Isolation Valve and freezes during flight. When refuel pressure is applied to the piston, the ice restricts the piston travel on one side leading to an asymmetric movement of the piston resulting in breakage of the guide shaft. A non-bonded metallic object within the fuel tank can result [in] a potential ignition source, which in combination with a lightning strike constitutes an unsafe condition.

We are issuing this AD to require actions to correct the unsafe condition on these products.

DATES: This AD becomes effective April 23, 2008.

The Director of the Federal Register approved the incorporation by reference of certain publications listed in this AD as of April 23, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on December 19, 2007 (72 FR 71828). That NPRM proposed to correct an unsafe condition for the specified products. The MCAI states:

Two A330 operators have reported that the guide shaft of the Refuel Isolation Valve has been broken away from the main casting and entered the fuel tank. The Supplier Investigation evidenced that water builds-up in the cavity of the Refuel Isolation Valve and freezes during flight. When refuel pressure is applied to the piston, the ice restricts the piston travel on one side leading to an asymmetric movement of the piston resulting in breakage of the guide shaft. A non-bonded metallic object within the fuel tank can result [in] a potential ignition source, which in combination with a lightning strike constitutes an unsafe condition.

For the reasons described above, this Airworthiness Directive (AD) requires replacement of the affected Refuel Isolation Valve with a more robust valve similar to that designed for the A380.

You may obtain further information by examining the MCAI in the AD docket.

Comments

Interested persons have been afforded an opportunity to participate in the making of this amendment. No comments were submitted in response to the proposal or the FAA's determination of the cost to the public.

Revised Service Information

We have reviewed Airbus Service Bulletins A330-28-3103 and A340-28-4120, both Revision 01, both dated January 11, 2008. We referred to the original issues, both dated July 17, 2007, as the appropriate sources of service information for accomplishing certain actions specified in the NPRM. We find that no additional work is required by these revisions. Therefore, we have changed paragraph (f) of this AD to refer to Revision 01 of Airbus Service Bulletins A330-28-3103 and A340-28-4120. We have also changed paragraph (f) to give credit to operators who have accomplished the actions in accordance with Airbus Service Bulletins A330-28-3103 and A340-28-4120, both dated July 17, 2007.

Conclusion

We have determined that air safety and the public interest require adopting the AD with the changes described previously. These changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 34 products of U.S. registry. We also estimate that it will take about 14 work-hours per product to comply with the basic requirements of this AD. The average labor rate is $80 per work-hour. Required parts will cost about $8,000 per product. Where the service information lists required parts costs that are covered under warranty, we have assumed that there will be no charge for these costs. As we do not control warranty coverage for affected parties, some parties may incur costs higher than estimated here. Based on these figures, we estimate the cost of the AD on U.S. operators to be $310,080, or $9,120 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-25 Airbus: Amendment 39-15437. Docket No. FAA-2007-0347; Directorate Identifier 2007-NM-253-AD.

Effective Date

(a) This airworthiness directive (AD) becomes effective April 23, 2008.

Affected ADs

(b) None.

Applicability

(c) This AD applies to the Airbus Model A330 and A340 airplanes identified in paragraphs (c)(1) and (c)(2) of this AD; certificated in any category; all certified models; all serial numbers.

(1) Model A330 and A340 airplanes except those on which Airbus Modification 55664 has been embodied in production or Airbus Service Bulletin A330-28-3103, A340-28-4120, or A340-28-5044 has been embodied in service.

(2) Model A330-300 series airplanes on which Airbus Modification 40176 (optional LH (left hand) coupling) has been embodied in production or Airbus Service Bulletin A330-28-3018 (optional LH coupling) has been embodied in service; except those on which Airbus Modification 56148 has been embodied in production or Airbus Service Bulletin A330-28-3103 has been embodied in service.

Subject

(d) Air Transport Association (ATA) of America Code 28: Fuel.

Reason

(e) The mandatory continuing airworthiness information (MCAI) states:

Two A330 operators have reported that the guide shaft of the Refuel Isolation Valve has been broken away from the main casting and entered the fuel tank. The Supplier Investigation evidenced that water builds-up in the cavity of the Refuel Isolation Valve and freezes during flight. When refuel pressure is applied to the piston, the ice restricts the piston travel on one side leading to an asymmetric movement of the piston resulting in breakage of the guide shaft. A non-bonded metallic object within the fuel tank can result [in] a potential ignition source, which in combination with a lightning strike constitutes an unsafe condition.

For the reasons described above, this Airworthiness Directive (AD) requires replacement of the affected Refuel Isolation Valve with a more robust valve similar to that designed for the A380.

Actions and Compliance

(f) Unless already done, do the following actions in accordance with the instructions defined in Airbus Service Bulletins A330-28-3103 and A340-28-4120, both Revision 01, both dated January 11, 2008; and A340-28-5044, dated July 17, 2007; as applicable. Actions done before the effective date of this AD in accordance with Airbus Service Bulletins A330-28-3103 and A340-28-4120, both dated July 17, 2007, are acceptable for compliance with the corresponding requirements of this AD.

(1) Within 18,000 flight hours from the effective date of this AD: Replace the refuel isolation valve(s); and re-identify the refuel/defuel coupling in accordance with the instructions defined in the applicable service bulletin.

(2) For refuel Isolation Valve and Refuel/Defuel Coupling Spare units: From the effective date of this AD, no person may install an affected refuel isolation valve unit or an affected refuel/defuel coupling unit as a replacement part on an aircraft, unless it has been modified in accordance with the instructions defined in the applicable service bulletin.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0239, dated September 3, 2007; and Airbus Service Bulletins A330-28-3103 and A340-28-4120, both Revision 01, both dated January 11, 2008; and A340-28-5044, dated July 17, 2007; for related information.

Material Incorporated by Reference

(i) You must use the applicable Airbus service bulletin specified in Table 1 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 1.—Material Incorporated by Reference
Service Bulletin | Revision | Date
A330-28-3103 | 01 | January 11, 2008.
A340-28-4120 | 01 | January 11, 2008.
A340-28-5044 | Original | July 17, 2007.

Issued in Renton, Washington, on March 9, 2008.
Stephen P. Boyd,
Manager, Transport Airplane Directorate, Aircraft Certification Service.

[FR Doc. E8-5275 Filed 3-18-08; 8:45 am]

BILLING CODE 4910-13-P